DEPARTMENT OF HEALTH AND HUMAN SERVICES

National Institutes of Health

Center for Scientific Review; Amended Notice of Meeting

Notice is hereby given of a change in the meeting of the Vaccines Against Microbial Diseases Study Section, June 13, 2019, 8:30 a.m. to June 14, 2019, 5:00 p.m., Hilton Garden Inn, Washington, DC, Franklin Square, 815 14th Street NW, Washington, DC 20005, which was published in the Federal Register on May 15, 2019, 84 FR 21794.

The meeting will be held at The Hilton Garden Inn Washington DC/Georgetown, 2201 M Street NW, Washington, DC 20037. The meeting date and time remain the same. The meeting is closed to the public.

Dated: June 5, 2019.
Sylvia L. Neal,
Program Analyst, Office of Federal Advisory Committee Policy.

[FR Doc. 2019-12223 Filed 6-10-19; 8:45 am]

BILLING CODE 4140-01-P